DEPARTMENT OF ENERGY

Federal Energy Regulatory Commission

[Docket Nos. ER06-615-012; ER07-1257-000]

California Independent System Operator Corporation; Notice Establishing Post-Technical Conference Schedule

October 2, 2007.

In accordance with the directive of the September 21, 2006, Order Conditionally Accepting the California Independent System Operator Corporation's (CAISO) Electric Tariff Filing to Reflect Market Redesign and Technology Upgrade (MRTU),¹ Federal Energy Regulatory Commission staff convened a technical conference on September 26-27, 2007, to help determine which practices or details in the Business Practice Manuals (BPMs) should be included in the MRTU Tariff.

¹ Cal. Indep. Sys. Operator Corp., 116 FERC ¶ 61,274, at P 1370 (2006).

As stated at the technical conference, the CAISO will file a response concerning the issues discussed at the technical conference by November 15, 2007. Following the CAISO's filing, parties may file comments, due on November 30, 2007, and reply comments, due on December 7, 2007.

Kimberly D. Bose,
Secretary.

[FR Doc. E7-19904 Filed 10-9-07; 8:45 am]

BILLING CODE 6717-01-P